DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), University of Washington, Seattle, WA. The human remains and associated funerary objects were removed from Yakima County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum professional staff in consultation with representatives of the Confederated Tribes and Bands of the Yakama Nation, Washington; Confederated Tribes of the Colville Reservation, Washington; Confederated Tribes of the Umatilla Reservation, Oregon; and Confederated Tribes of the Warm Springs Reservation of Oregon.

In 1959, human remains representing a minimum of one individual were removed from Bergen site #30 at the junction of Wenas Creek and Yakima River, Yakima County, WA, by Dr. Harold Bergen, an avocational archeologist. In 1989, the human remains and cultural items were donated by Dr. Bergen to the Burke Museum (Burke Accn. # 1989-57). No known individual was identified. The 102 associated funerary objects are 1 basketry fragment, 2 unmodified stones, 46 mammal remains, 1 point, 1 scraper, 49 shell and shell bead fragments, 1 elk tooth pendant, and 1 utilized flake.

The human remains were collected from a talus area in a shallow depression of a talus slide with basalt rocks mounded around the depression. Dr. Bergen excavated a single burial. The burial contained no evidence of burning, however, other burials at the site, but not removed, showed signs of burning and appeared to be cremations. This burial pattern is consistent with Yakama burial practices (Schuster 1990: 338).

The Yakama Treaty, signed on June 9, 1855, included the area surrounding the junction of Wenas Creek and Yakima River in the aboriginal territory of the present-day Confederated Tribes and Bands of the Yakama Nation, Washington. Other ethnographic and historic documentation confirms that this area is in the aboriginal territory of the Yakama (Daugherty 1973; Ray 1936; Schuster 1990). According to Swanton (1952), the Yakama group Si'la-hlama occupied the area along the Yakima River between Wenas Creek and Umtanum Creek. Furthermore, the Lower Yakama village ts'kik was located on the Yakima River, just downstream from the junction of Wenas Creek and the Yakima River. Descendants of the Yakama are members of the present-day Confederated Tribes and Bands of the Yakama Nation, Washington.

Officials of the Burke Museum have determined that, pursuant to 25 U.S.C. 3001 (9-10), the human remains described above represent the physical remains of one individual of Native American ancestry. Officials of the Burke Museum also have determined that, pursuant to 25 U.S.C. 3001 (3)(A), the 102 objects described above are reasonably believed to have been placed with or near individual human remains at the time of death or later as part of the death rite or ceremony. Lastly, officials of the Burke Museum have determined that, pursuant to 25 U.S.C. 3001 (2), there is a relationship of shared group identity that can be reasonably traced between the Native American human remains and associated funerary objects and the Confederated Tribes and Bands of the Yakama Nation, Washington.

Representatives of any other Indian tribe that believes itself to be culturally affiliated with the human remains and associated funerary objects should contact Dr. Peter Lape, Burke Museum, University of Washington, Box 353010, Seattle, WA 98195-3010, telephone (206) 685-2282, before December 4, 2006. Repatriation of the human remains and associated funerary objects to the Confederated Tribes and Bands of the Yakama Nation, Washington may proceed after that date if no additional claimants come forward.

The Burke Museum is responsible for notifying the Confederated Tribes and Bands of the Yakama Nation, Washington; Confederated Tribes of the Colville Reservation, Washington; Confederated Tribes of the Umatilla Reservation, Oregon; and Confederated Tribes of the Warm Springs Reservation of Oregon that this notice has been published.

Dated: September 28, 2006
Sherry Hutt,
Manager, National NAGPRA Program.

[FR Doc. E6-18479 Filed 11-1-06; 8:45 am]

BILLING CODE 4312-50-S